NUCLEAR REGULATORY COMMISSION

[NRC-2016-0043]

Clarification of Compensatory Measure Requirements for Physical Protection Program Deficiencies

AGENCY: Nuclear Regulatory Commission.

ACTION: Regulatory issue summary; issuance.

SUMMARY: The U.S. Nuclear Regulatory Commission (NRC) is issuing Regulatory Issue Summary (RIS) 2017-04, “Clarification on the Implementation of Compensatory Measures for Protective Strategy Deficiencies or Degraded or Inoperable Security Systems, Equipment, or Components.” This RIS reminds addressees that they are required to implement compensatory measures supported by an assessment to ensure their physical protection program maintains, at all times, the capability to detect, assess, interdict, and neutralize threats as identified in NRC regulations. Compensatory measures must be implemented for degraded or inoperable security systems, equipment, or components, and for protective strategy deficiencies identified during performance evaluation exercises and drills.

DATES: The RIS is available as of September 6, 2017.

ADDRESSES: Please refer to Docket ID NRC-2016-0043 when contacting the NRC about the availability of information regarding this document. You may obtain publicly-available information related to this document using any of the following methods:

• Federal Rulemaking Web site: Go to http://www.regulations.gov and search for Docket ID NRC-2016-0043. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. This RIS is available under ADAMS Accession No. ML16110A366.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2017” and then select “RIS 2017-04”).

FOR FURTHER INFORMATION CONTACT: Carl Grigsby, Office of Nuclear Security and Incident Response, U.S. Nuclear Regulatory Commission, Washington, DC 20555-0001; telephone: 301-287-3681; email: Carl.Grigsby@nrc.gov.

SUPPLEMENTARY INFORMATION: The NRC published a notice of opportunity for public comment on this RIS in the Federal Register on March 1, 2016 (81 FR 10686). The agency received two sets of comments. The staff considered all comments, which resulted in minor changes to the RIS. The evaluation of these comments is discussed in a publicly-available memorandum which is in ADAMS under Accession No. ML16110A370.

Dated at Rockville, Maryland, this 30th day of August 2017.
For the Nuclear Regulatory Commission.
Alexander D. Garmoe,
Chief (Acting), Generic Communications Branch, Division of Policy and Rulemaking, Office of Nuclear Reactor Regulation.

[FR Doc. 2017-18755 Filed 9-5-17; 8:45 am]

BILLING CODE 7590-01-P